DEPARTMENT OF STATE

[Public Notice Number 3465]

Notice of Meetings; United States International Telecommunication Advisory Committee (ITAC)—Telecommunication Standardization Sector (ITAC-T); U.S. Study Groups A and B

The Department of State announces meetings of the U.S. International Telecommunication Advisory Committee (ITAC)—Telecommunication Standardization (ITAC-T) National Committee and US Study Groups A and D. The purpose of the Committees is to advise the Department on policy and technical issues with respect to the International Telecommunication Union and international telecommunication standardization and development. Except where noted, meetings will be held at the Department of State, 2201 “C” Street, NW, Washington, DC.

The ITAC-T U.S. Study Group A will meet from 9:30 to noon on November 29, 2000, at the Federal Communications Commission, 445 12th Street, SW., Washington, DC 20554 to prepare positions for the ITU-T Study Group 3 meeting starting in December.

The ITAC-T U.S. Study Group B will meet from 9:30 AM to 3:30 on December 19, 2000, at the Department of Commerce, Room B841A, 1401 Constitution Ave, NW, Washington, DC 20230 to prepare positions for the next ITU-T Study Group 4 meeting.

Members of the general public may attend these meetings. Directions to meeting locations and actual room assignments may be determined by calling the Secretariat at 202 647-0965/2592. For meetings held at the Department of State: entrance to the building is controlled; people intending to attend any of the ITAC meetings should send a fax to (202) 647-7407 not later than 24 hours before the meeting for preclearance. This fax should display the name of the meeting (ITAC T, U.S. Study Group A or D) and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: November 9, 2000.
Marian Gordon,
Chairman, ITAC T, U.S. Department of State.

[FR Doc. 00-29898 Filed 11-21-00; 8:45 am]

BILLING CODE 4710-45-U